DEPARTMENT OF DEFENSE

Department of the Air Force

Global Positioning System Joint Program Office

AGENCY: Department of the Air Force, DoD.

ACTION: Notice and Request for Review/Comment of draft ICD-GPS-705 Version 2.

SUMMARY: This notice informs the public that the Global Positioning System (GPS) Joint Program Office (JPO) has released the current draft of ICD-GPS-705, Navstar GPS Space Segment/User Segment L5 Interfaces, for public review and comment. This ICD describes the interface characteristics of L5, a signal to be incorporated into the GPS system for the benefit of the civilian community. The draft ICD can be reviewed at the following Web site: http://gps.losangeles.af.mil. Select “Configuration Management”, and then select “Public Data For Review”. Hyperlinks to the draft ICD and review instructions are provided. The reviewer should save the draft ICD to a local memory location prior to opening and performing the review. All comments and their resolutions will be posted to the Web site.

ADDRESSES: Submit comments to SMC/CZERC, 2420 Vela Way, Suite 1467, El Segundo CA 90245-4659. A comment matrix is provided for your convenience at the web site and is the preferred method of comment submittal. Comments may be submitted to the following Internet address: <smc.czerc@losangeles.af.mil>. Comments may also be sent by fax to (310) 363-6387.

DATES: The suspense date for comment submittal is April 30, 2002. The following schedule of events is anticipated:

ICD-705 version 2 posted on GPS public Web page: March 29, 2002.

Comment Submittal Suspense Date: April 30, 2002.

Government Response to Comments Suspense Date: May 14, 2002.

FOR FURTHER INFORMATION CONTACT: CZERC at (310) 363-6329, GPS JPO System Engineering Division, or write to the address above.

SUPPLEMENTARY INFORMATION: The civilian and military communities use the Global Positioning System, which employs a constellation of 24 satellites to provide continuously transmitted signals to enable appropriately configured GPS user equipment to produce accurate position, navigation and time information.

Pamela D. Fitzgerald,
Air Force Federal Register Liaison Officer.

[FR Doc. 02-9465 Filed 4-17-02; 8:45 am]

BILLING CODE 5001-05-P